DEPARTMENT OF AGRICULTURE

Forest Service

Five Buttes Interface Vegetation Management Project, Deschutes National Forest, Deschutes and Klamath Counties, OR

AGENCY: Forest Service, USDA.

ACTION: Notice of intent to prepare an environmental impact statement.

SUMMARY: The USDA, Forest Service, will prepare an environmental impact statement (EIS) on a proposed action to maintain and restore forest health conditions within the 160,000-acre planning area known as Five Buttes Interface. The planning area is located approximately 50 miles south of Bend, Oregon, south of Wickiup Reservoir, east of the Cascade Crest, and west of State Highway 97. The area is a combination of public lands (90%), managed by the Deschutes National Forest, and private lands (10%). The alternatives will include the proposed action, no action, and additional alternatives that respond to issues generated through the scoping process. The agency will give notice of the full environmental analysis and decision making process so interested and affected people may participate and contribute to the final decision.

DATES: Comments concerning the scope of the analysis must be received by 30 days following the date that this notice appears in the Federal Register.

ADDRESSES: Send written comments to Phil Cruz, District Ranger, Crescent Ranger District, P.O. Box 208, Crescent, Oregon 97733.

FOR FURTHER INFORMATION CONTACT: Marcy Boehme, Environmental Specialist, Crescent Ranger District, P.O. Box 208, Crescent, Oregon 97733, phone (541) 433-3200. E-mail mboehme@fs.fed.us.

Responsible Official: The responsible official will be Leslie Weldon, Forest Supervisor, Deschutes National Forest, P.O. Box 1645 Hwy. 20 East, Bend, OR 97701.

SUPPLEMENTARY INFORMATION: Purpose and Need. The Davis Late Successional Reserve Assessment found that the most immediate need within the Late Successional Reserve (LSR) was to reduce the risk of uncharacteristic loss of critical vegetative components in the existing late and old-structured stands that are imminently susceptible to insect attack or wildfire. This situation applies in much of the area outside the LSR as well.

In the mixed conifer dry plant association group the true fir component has increased dramatically in the last century. Because of the dry site conditions and the stand structure that provides ladder fuels from the ground to the crown, these stands are at the highest risk of being lost to a large-scale insect or disease attack or fire event. Large ponderosa pine and Douglas fir that would ordinarily be fire resistant are placed at risk because of increased competition with true fir and increased ladder fuels.

Across the landscape stands once dominated by large trees (greater than 21″ in diameter) have a steadily increasing amount of smaller trees. Due to these overstocked stand conditions and competition with younger, smaller trees, it is likely that the large tree component will continue to decline in these forests. High density understories consist mostly of true fir and lodgepole pine, while residual overstory trees are ponderosa pine, sugar pine, white pine, and Douglas fir. Not enough overstory trees of the right species exist to provide a seed source to adequately replace the larger trees that are being lost.

The decline in large-tree dominated stands affects habitat for the bald eagle and the northern spotted owl, species listed as Threatened under the Endangered Species Act. Habitat for both species has been reduced on the landscape by the Davis Fire, thereby increasing the importance of treatments that can help improve resistance of the large, old trees to insect and fire processes.

Fire exclusion has allowed wet areas and riparian zones in the planning area to experience encroachment by lodgepole pine to levels that significantly reduce the abundance and health of historic riparian vegetation.

The proposed action is designed to address opportunities for restoring ecosystems identified during watershed analysis and to implement the management strategy defined for the Davis LSR. Specifically, the purpose and need of the proposed action is to:

—Reduce the risk of large-scale loss of forest due to insects, disease, and/or uncharacteristically severe wildfires.

—Maintain and enhance existing late and old-structured forest stand characteristics through silvicultural treatments.

—Reduce high fuel loading across the project area, including the urban interface, to better protect communities and the forest.

—Reintroduce fire to fire-dependent ecosystems as a natural fuels reduction agent.

—Take advantage of opportunities resulting from vegetation management activities that offset costs and provide products to stimulate the economy.

Proposed Action. The proposed action includes a variety of vegetation management activities. These include: thin to create or maintain single story stands and culture large trees, thin to maintain multi-story canopy and large trees, combination thin to multi-story and single story, remove (salvage) excess dead and dying lodgepole pine; thin and burn lodgepole understory, and use prescribed fire in association with these activities to maintain or enhance fire-dependent ecosystems.

Issues. Preliminary issues identified include the potential effect of the proposed action on suitable nesting, roosting and foraging (NRF) habitat for the northern spotted owl. Treatments aimed at making these stands more resistant to insect, disease, and fire may also cause short-term degradation of habitat.

Comment. Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decision under 36 CFR parts 215 and 217. Additionally, pursuant to 7 CFR 1.27(d), any person may request the agency to withhold a submission from the public record by showing how the Freedom of Information Act (FOIA) permits such confidentiality. Persons requesting such confidentiality should be aware that, under FOIA, confidentially may be granted in only very limited circumstances, such as to protect trade secrets. The Forest Service will inform the requester of the agency's decision regarding the request for confidentiality, and where the request is denied, the agency will return the submission and notify the requester that the comments may be resubmitted with or without name and address within a specified number of days.

A draft EIS will be filed with the Environmental Protection Agency (EPA) and available for public review by January, 2006. The EPA will publish a Notice of Availability (NOA) of the draft EIS in the Federal Register. The final EIS is scheduled to be available April, 2006.

The comment period on the draft EIS will be 45 days from the date the EPA publishes the notice of availability in the Federal Register.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Angoon v. Harris, 490 F. Supp. 1334, 1338 (E.D. Wis. 1980)]. Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is the Forest Supervisor, Deschutes National Forest. The responsible official will decide where and whether or not to think stands, salvage excess dead and dying lodgepole pine, and apply natural fuels treatments. The responsible official will also decide how to mitigate impacts of these actions and will determine when and how monitoring of effects will take place.

The Five Buttes Interface decision and the reasons for the decision will be documented in the record of decision. That decision will be subject to Forest Service Appeal Regulations (35 CFR part 215).

Dated: March 28, 2005.
Leslie A.C. Weldon,
Forest Supervisor, Deschutes National Forest.

[FR Doc. 05-6445 Filed 3-31-05; 8:45 am]

BILLING CODE 3410-11-M